DEPARTMENT OF TRANSPORTATION

Federal Aviation Administration

14 CFR Part 97

[Docket No. 31208; Amdt. No. 3813]

Standard Instrument Approach Procedures, and Takeoff Minimums and Obstacle Departure Procedures; Miscellaneous Amendments

AGENCY: Federal Aviation Administration (FAA), DOT.

ACTION: Final rule.

SUMMARY: This rule establishes, amends, suspends, or removes Standard Instrument Approach Procedures (SIAPs) and associated Takeoff Minimums and Obstacle Departure Procedures (ODPs) for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective September 11, 2018. The compliance date for each SIAP, associated Takeoff Minimums, and ODP is specified in the amendatory provisions.

The incorporation by reference of certain publications listed in the regulations is approved by the Director of the Federal Register as of September 11, 2018.

ADDRESSES: Availability of matters incorporated by reference in the amendment is as follows:

For Examination

1. U.S. Department of Transportation, Docket Ops-M30, 1200 New Jersey Avenue SE, West Bldg., Ground Floor, Washington, DC 20590-0001.

2. The FAA Air Traffic Organization Service Area in which the affected airport is located;

3. The office of Aeronautical Navigation Products, 6500 South MacArthur Blvd., Oklahoma City, OK 73169, or

4. The National Archives and Records Administration (NARA). For information on the availability of this material at NARA, call 202-741-6030, or go to: http://www.archives.gov/federal_register/code_of_federal_regulations/ibr_locations.html.

Availability

All SIAPs and Takeoff Minimums and ODPs are available online free of charge. Visit the National Flight Data Center at nfdc.faa.gov to register. Additionally, individual SIAP and Takeoff Minimums and ODP copies may be obtained from the FAA Air Traffic Organization Service Area in which the affected airport is located.

FOR FURTHER INFORMATION CONTACT: Thomas J. Nichols, Flight Procedure Standards Branch (AFS-420), Flight Technologies and Programs Divisions, Flight Standards Service, Federal Aviation Administration, Mike Monroney Aeronautical Center, 6500 South MacArthur Blvd., Oklahoma City, OK 73169 (Mail Address: P.O. Box 25082, Oklahoma City, OK 73125) Telephone: (405) 954-4164.

SUPPLEMENTARY INFORMATION: This rule amends Title 14 of the Code of Federal Regulations, Part 97 (14 CFR part 97), by establishing, amending, suspending, or removes SIAPS, Takeoff Minimums and/or ODPS. The complete regulatory description of each SIAP and its associated Takeoff Minimums or ODP for an identified airport is listed on FAA form documents which are incorporated by reference in this amendment under 5 U.S.C. 552(a), 1 CFR part 51, and 14 CFR part 97.20. The applicable FAA forms are FAA Forms 8260-3, 8260-4, 8260-5, 8260-15A, and 8260-15B when required by an entry on 8260-15A.

The large number of SIAPs, Takeoff Minimums and ODPs, their complex nature, and the need for a special format make publication in the Federal Register expensive and impractical. Further, airmen do not use the regulatory text of the SIAPs, Takeoff Minimums or ODPs, but instead refer to their graphic depiction on charts printed by publishers of aeronautical materials. Thus, the advantages of incorporation by reference are realized and publication of the complete description of each SIAP, Takeoff Minimums and ODP listed on FAA form documents is unnecessary. This amendment provides the affected CFR sections and specifies the types of SIAPs, Takeoff Minimums and ODPs with their applicable effective dates. This amendment also identifies the airport and its location, the procedure, and the amendment number.

Availability and Summary of Material Incorporated by Reference

The material incorporated by reference is publicly available as listed in the ADDRESSES section.

The material incorporated by reference describes SIAPS, Takeoff Minimums and/or ODPS as identified in the amendatory language for part 97 of this final rule.

The Rule

This amendment to 14 CFR part 97 is effective upon publication of each separate SIAP, Takeoff Minimums and ODP as Amended in the transmittal. Some SIAP and Takeoff Minimums and textual ODP amendments may have been issued previously by the FAA in a Flight Data Center (FDC) Notice to Airmen (NOTAM) as an emergency action of immediate flight safety relating directly to published aeronautical charts.

The circumstances that created the need for some SIAP and Takeoff Minimums and ODP amendments may require making them effective in less than 30 days. For the remaining SIAPs and Takeoff Minimums and ODPs, an effective date at least 30 days after publication is provided.

Further, the SIAPs and Takeoff Minimums and ODPs contained in this amendment are based on the criteria contained in the U.S. Standard for Terminal Instrument Procedures (TERPS). In developing these SIAPs and Takeoff Minimums and ODPs, the TERPS criteria were applied to the conditions existing or anticipated at the affected airports. Because of the close and immediate relationship between these SIAPs, Takeoff Minimums and ODPs, and safety in air commerce, I find that notice and public procedure under 5 U.S.C. 553(b) are impracticable and contrary to the public interest and, where applicable, under 5 U.S.C. 553(d), good cause exists for making some SIAPs effective in less than 30 days.

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26,1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, Navigation (Air).

Issued in Washington, DC, on August 10, 2018.
Rick Domingo,
Executive Director, Flight Standards Service.

Adoption of the Amendment

Accordingly, pursuant to the authority delegated to me, Title 14, Code of Federal Regulations, Part 97 (14 CFR part 97) is amended by establishing, amending, suspending, or removing Standard Instrument Approach Procedures and/or Takeoff Minimums and Obstacle Departure Procedures effective at 0901 UTC on the dates specified, as follows:

PART 97—STANDARD INSTRUMENT APPROACH PROCEDURES

1. The authority citation for part 97 continues to read as follows:

Authority: 49 U.S.C. 106(f), 106(g), 40103, 40106, 40113, 40114, 40120, 44502, 44514, 44701, 44719, 44721-44722.

2. Part 97 is amended to read as follows:

Effective 13 September 2018

Berryville, AR, Carroll County, RNAV (GPS) RWY 7, Amdt 1

Berryville, AR, Carroll County, RNAV (GPS) RWY 25, Amdt 1

Mountain Home, AR, Baxter County, ILS OR LOC RWY 5, Amdt 1

Mountain Home, AR, Baxter County, Takeoff Minimums and Obstacle DP, Amdt 4

Mountain Home, AR, Baxter County, VOR-A, Amdt 10A, CANCELED

Casa Grande, AZ, Casa Grande Muni, ILS OR LOC RWY 5, Amdt 7

Casa Grande, AZ, Casa Grande Muni, RNAV (GPS) RWY 5, Amdt 1

Casa Grande, AZ, Casa Grande Muni, RNAV (GPS) RWY 23, Orig

Fort Huachuca Sierra Vista, AZ, Sierra Vista Muni-Libby AAF, Takeoff Minimums and Obstacle DP, Amdt 4

El Monte, CA, San Gabriel Valley, NDB OR GPS-C, Amdt 1A, CANCELED

El Monte, CA, San Gabriel Valley, Takeoff Minimums and Obstacle DP, Amdt 7

El Monte, CA, San Gabriel Valley, VOR-A, Orig

El Monte, CA, San Gabriel Valley, VOR OR GPS-A, Amdt 7A, CANCELED

Palm Springs, CA, Jacqueline Cochran Rgnl, RNAV (GPS) RWY 35, Amdt 1

San Francisco, CA, San Francisco Intl, ILS OR LOC RWY 28R, ILS RWY 28R (SA CAT I), ILS RWY 28R (CAT II), ILS RWY 28R (CAT III), Amdt 15

San Francisco, CA, San Francisco Intl, RNAV (GPS) RWY 28L, Amdt 7

San Francisco, CA, San Francisco Intl, RNAV (GPS) Z RWY 28R, Amdt 7

San Francisco, CA, San Francisco Intl, RNAV (RNP) Y RWY 28R, Amdt 5

South Lake Tahoe, CA, Lake Tahoe, Takeoff Minimums and Obstacle DP, Amdt 8

Ellijay, GA, Gilmer County, RNAV (GPS) RWY 3, Orig

Ellijay, GA, Gilmer County, RNAV (GPS) RWY 21, Orig

Ellijay, GA, Gilmer County, Takeoff Minimums and Obstacle DP, Orig

Rome, GA, Richard B Russell Regional—J H Towers Field, ILS OR LOC RWY 1, Amdt 1

Rome, GA, Richard B Russell Regional—J H Towers Field, RNAV (GPS) RWY 1, Amdt 1

Rome, GA, Richard B Russell Regional—J H Towers Field, RNAV (GPS) RWY 7, Amdt 1

Rome, GA, Richard B Russell Regional—J H Towers Field, RNAV (GPS) RWY 19, Amdt 1

Rome, GA, Richard B Russell Regional—J H Towers Field, RNAV (GPS) RWY 25, Amdt 1

Rome, GA, Richard B Russell Regional—J H Towers Field, Takeoff Minimums and Obstacle DP, Amdt 4

Rome, GA, Richard B Russell Regional—J H Towers Field, VOR/DME RWY 1, Amdt 9, CANCELED

Rome, GA, Richard B Russell Regional—J H Towers Field, VOR/DME RWY 19, Amdt 9, CANCELED

Albia, IA, Albia Muni, Takeoff Minimums and Obstacle DP, Amdt 4

Oelwein, IA, Oelwein Muni, RNAV (GPS) RWY 13, Orig-A

Oelwein, IA, Oelwein Muni, VOR OR GPS-A, Amdt 3B, CANCELED

Sibley, IA, Sibley Muni, NDB OR GPS RWY 35, Amdt 1B, CANCELED

Sibley, IA, Sibley Muni, RNAV (GPS)-A, Orig

Waterloo, IA, Waterloo Rgnl, ILS OR LOC RWY 12, Amdt 10

Waterloo, IA, Waterloo Rgnl, LOC BC RWY 30, Amdt 12

Waterloo, IA, Waterloo Rgnl, RNAV (GPS) RWY 6, Amdt 1

Waterloo, IA, Waterloo Rgnl, RNAV (GPS) RWY 12, Amdt 1

Waterloo, IA, Waterloo Rgnl, RNAV (GPS) RWY 18, Amdt 1

Waterloo, IA, Waterloo Rgnl, RNAV (GPS) RWY 24, Amdt 1

Waterloo, IA, Waterloo Rgnl, RNAV (GPS) RWY 30, Amdt 1

Waterloo, IA, Waterloo Rgnl, RNAV (GPS) RWY 36, Amdt 1

Waterloo, IA, Waterloo Rgnl, VOR RWY 6, Amdt 3B

Waterloo, IA, Waterloo Rgnl, VOR RWY 12, Amdt 10B

Waterloo, IA, Waterloo Rgnl, VOR RWY 18, Amdt 9

Waterloo, IA, Waterloo Rgnl, VOR RWY 24, Amdt 16C

Waverly, IA, Waverly Muni, VOR-A, Amdt 4

Chicago, IL, Chicago O'Hare Intl, RNAV (GPS) PRM Y RWY 28L (CLOSE PARALLEL), Orig-A

Chicago, IL, Chicago O'Hare Intl, RNAV (GPS) Y RWY 28L, Orig-A

Chicago, IL, Chicago O'Hare Intl, RNAV (GPS) Z RWY 28L, Orig-C

Harrisburg, IL, Harrisburg-Raleigh, RNAV (GPS) RWY 24, Amdt 2A

Evansville, IN, Evansville Rgnl, RADAR-1, Amdt 7A

Evansville, IN, Evansville Rgnl, VOR RWY 4, Amdt 7A

South Bend, IN, South Bend Intl, ILS OR LOC RWY 9R, Amdt 10

South Bend, IN, South Bend Intl, ILS OR LOC RWY 27L, ILS RWY 27L SA CAT I, ILS RWY 27L SA CAT II, Amdt 36

South Bend, IN, South Bend Intl, RNAV (GPS) RWY 9L, Amdt 1

South Bend, IN, South Bend Intl, RNAV (GPS) RWY 18, Amdt 1B

South Bend, IN, South Bend Intl, RNAV (GPS) RWY 27L, Orig-B

South Bend, IN, South Bend Intl, RNAV (GPS) RWY 27R, Amdt 1

South Bend, IN, South Bend Intl, VOR RWY 18, Amdt 7E

Kingman, KS, Kingman Airport—Clyde Cessna Field, RNAV (GPS) RWY 18, Amdt 1

Kingman, KS, Kingman Airport—Clyde Cessna Field, RNAV (GPS) RWY 36, Amdt 1

Indian Head, MD, Maryland, RNAV (GPS) RWY 2, Amdt 1B

Cheboygan, MI, Cheboygan County, Takeoff Minimums and Obstacle DP, Amdt 3A

New Hudson, MI, Oakland Southwest, Takeoff Minimums and Obstacle DP, Amdt 2A

Starkville, MS, George M Bryan, RNAV (GPS) RWY 18, Amdt 2B

Newark, NJ, Newark Liberty Intl, GLS RWY 4L, Amdt 1

Newark, NJ, Newark Liberty Intl, GLS RWY 4R, Amdt 1

Newark, NJ, Newark Liberty Intl, GLS RWY 22R, Amdt 1

Trenton, NJ, Trenton Mercer, ILS OR LOC RWY 6, Amdt 10D

Trenton, NJ, Trenton Mercer, RNAV (GPS) RWY 34, Orig-C

Belen, NM, Belen Rgnl, RNAV (GPS) RWY 21, Orig-A

Belen, NM, Belen Rgnl, Takeoff Minimums and Obstacle DP, Amdt 1B

Belen, NM, Belen Rgnl, VOR-A, Amdt 1B

New York, NY, LaGuardia, LOC RWY 31, Amdt 3C

New York, NY, LaGuardia, VOR-H, Amdt 3C

New York, NY, Stewart Intl, RNAV (GPS) RWY 9, Amdt 1D

New York, NY, Stewart Intl, RNAV (GPS) RWY 16, Amdt 1C

Wellsville, NY, Wellsville Muni Arpt, Tarantine Fld, LOC/DME RWY 28, Amdt 4, CANCELED

Wellsville, NY, Wellsville Muni Arpt, Tarantine Fld, RNAV (GPS) RWY 10, Amdt 1

Wellsville, NY, Wellsville Muni Arpt, Tarantine Fld, RNAV (GPS) RWY 28, Amdt 1

Dayton, OH, Dayton-Wright Brothers, NDB-A, Amdt 3

Piqua, OH, Piqua Airport—Hartzell Field, RNAV (GPS) RWY 8, Orig-D

Piqua, OH, Piqua Airport—Hartzell Field, RNAV (GPS) RWY 26, Orig-C

Piqua, OH, Piqua Airport—Hartzell Field, VOR RWY 26, Amdt 6D

Piqua, OH, Piqua Airport—Hartzell Field, VOR-A, Amdt 13C

Eugene, OR, Mahlon Sweet Field, ILS OR LOC RWY 16L, Amdt 2A

Eugene, OR, Mahlon Sweet Field, ILS OR LOC RWY 16R, ILS RWY 16R SA CAT I, ILS RWY 16R CAT II, ILS RWY 16R CAT III, Amdt 38A

Eugene, OR, Mahlon Sweet Field, RNAV (GPS) Y RWY 16L, Amdt 4

Eugene, OR, Mahlon Sweet Field, RNAV (GPS) Y RWY 16R, Amdt 3

Eugene, OR, Mahlon Sweet Field, RNAV (GPS) Y RWY 34L, Amdt 4

Eugene, OR, Mahlon Sweet Field, RNAV (GPS) Y RWY 34R, Amdt 4

Eugene, OR, Mahlon Sweet Field, Takeoff Minimums and Obstacle DP, Amdt 7B

Eugene, OR, Mahlon Sweet Field, VOR-A, Amdt 7B

Eugene, OR, Mahlon Sweet Field, VOR OR TACAN RWY 16R, Amdt 5C

Eugene, OR, Mahlon Sweet Field, VOR OR TACAN RWY 34L, Amdt 6

Hermiston, OR, Hermiston Muni, RNAV (GPS)-B, Amdt 1

Hermiston, OR, Hermiston Muni, VOR-A, Amdt 4

Columbia, SC, Jim Hamilton L B Owens, GPS RWY 31, Orig-B, CANCELED

Columbia, SC, Jim Hamilton L B Owens, LOC RWY 31, Amdt 2

Columbia, SC, Jim Hamilton L B Owens, RNAV (GPS) RWY 13, Orig

Columbia, SC, Jim Hamilton L B Owens, RNAV (GPS) RWY 31, Orig

Pine Ridge, SD, Pine Ridge, RNAV (GPS) RWY 12, Orig

Pine Ridge, SD, Pine Ridge, RNAV (GPS) RWY 30, Orig-C

Dallas-Fort Worth, TX, Dallas-Fort Worth Intl, RNAV (GPS) Y RWY 13R, Amdt 3

Odessa, TX, Odessa-Schlemeyer Field, Takeoff Minimums and Obstacle DP, Amdt 3A

Antigo, WI, Langlade County, RNAV (GPS) RWY 27, Amdt 1

Stevens Point, WI, Stevens Point Muni, RNAV (GPS) RWY 3, Orig-B

[FR Doc. 2018-18881 Filed 9-10-18; 8:45 am]

BILLING CODE 4910-13-P